FEDERAL ELECTION COMMISSION

Sunshine Act Notices

Date and Time: Thursday, December 2, 2010, at 10 a.m.

Place: 999 E Street, NW., Washington, DC (Ninth Floor).

Status: This meeting will be open to the public.

The Following Items were Withdrawn from the Agenda:

Proposed Final Audit Report on the Washington State Democratic Central Committee

Proposed Final Audit Report on the Tennessee Republican Party Federal Election Account

Individuals who plan to attend and require special assistance, such as sign language interpretation or other reasonable accommodations, should contact Shawn Woodhead Werth, Commission Secretary and Clerk, at (202) 694-1040, at least 72 hours prior to the hearing date.

PERSON TO CONTACT FOR INFORMATION: Judith Ingram, Press Officer, Telephone: (202) 694-1220.

Shawn Woodhead Werth,
Secretary and Clerk of the Commission.

[FR Doc. 2010-30736 Filed 12-8-10; 8:45 am]

BILLING CODE 6715-01-M